DEPARTMENT OF THE INTERIOR

Bureau of Land Management

[LLIDB00100 LF1000000.HT0000 LXSS020D0000 4500031290]

Notice of Intent To Prepare Environmental Documents and Proposed Plan Amendments for Off-Highway Vehicle Use Designations in the Kuna and Cascade Land Use Plans, Ada and Payette Counties, ID

AGENCY: Bureau of Land Management, Interior.

ACTION: Notice of Intent.

SUMMARY: In compliance with the National Environmental Policy Act of 1969 (NEPA), as amended, and the Federal Land Policy and Management Act of 1976 (FLPMA), as amended, the Bureau of Land Management (BLM) Boise District Office, Four Rivers Field Office, Boise, Idaho, intends to prepare environmental assessments (EA) that will evaluate the effects of amending the 1983 Kuna Management Framework Plan (KMFP) and the 1988 Cascade Resource Management Plan (CRMP) to address off-highway vehicle (OHV) use designations. By this notice, the BLM is announcing the beginning of the scoping process to solicit public comments and identify issues.

DATES: This notice initiates the public scoping process for the KMFP and CRMP amendments with associated EAs. The dates and locations of any scoping meetings will be announced at least 15 days in advance through local news media, mailings to interested individuals, and on the BLM Idaho Web site http://www.blm.gov/id. In order to be included in the analyses, all comments on issues may be submitted in writing until July 5, 2012 or 30 days after the last public meeting, whichever is later.

ADDRESSES: Submit comments on issues and planning criteria related to the KMFP and CRMP amendments and associated EAs by any of the following methods:

• Email: BLM_ID_FRFO_OHV@blm.gov.

• Fax: (208) 384-3326.

• Mail: BLM Boise District Office, 3948 Development Avenue, Boise, Idaho 83705, ATTN: Larry Ridenhour.

Documents related to this proposal may be examined at the Boise District Office or online at http://www.blm.gov/id/st/en/fo/four_rivers.html. All comments must contain the name and address of the submitter, regardless of delivery method, in order to be considered.

FOR FURTHER INFORMATION CONTACT: Terry Humphrey, Four Rivers Field Manager, 3948 Development Avenue, Boise, Idaho 83705 or phone 208-384-3430. Persons who use a telecommunications device for the deaf (TDD) may call the Federal Information Relay Service (FIRS) at 1-800-877-8339 to contact the above individual during normal business hours (8:00 a.m.-4:30 p.m.). FIRS is available 24 hours a day, 7 days a week, to leave a message or a question. You will receive a reply during normal business hours.

SUPPLEMENTARY INFORMATION: The BLM Four Rivers Field Office, Boise, Idaho, intends to prepare Land Use Plan amendments for the 1983 KMFP and 1988 CRMP and hereby announces the beginning of the scoping process and seeks public input on issues and planning criteria to be addressed in the EAs. The KMFP and CRMP planning areas are located in Ada and Payette counties, Idaho, and encompass approximately 1,416,000 acres of public land. The proposed actions, however, would affect no more than 7,670 acres within these planning areas. The purpose of the public scoping process is to determine relevant issues that will influence the scope of the environmental analysis, including alternatives, and guide the planning processes. Preliminary issues for the land use plan amendment areas have been identified by BLM personnel; Federal, State, and local agencies; and other stakeholders. Known issues include special status species (i.e., slickspot peppergrass, Packard's milkvetch, and southern Idaho ground squirrel), vegetation communities, special area designations, cultural resources, soils, recreational uses, livestock grazing, and unauthorized OHV trespass. Preliminary planning criteria include:

1. Compliance with FLPMA, NEPA, and all other applicable laws, regulations, and policies; and

2. Program-specific guidance for decisions at the land use planning level in accordance with policies in the BLM Land Use Planning Handbook, H-1601-1 and Manual Section 1626, Travel and Transportation Management.

Public participation and collaboration will be an integral part of the planning process. The BLM will strive to make decisions in the plan amendments that are compatible with existing plans and policies of affected local, State, and Federal agencies and affected Native American tribes, as long as the decisions are also consistent with the purposes, policies, and programs of Federal law and regulations applicable to public lands. The planning process will provide for ongoing consultation with Native American tribes and strategies for protecting recognized traditional uses (e.g. gathering of traditionally used plant materials) and impacts on Indian trust assets. The plan amendments will incorporate, where appropriate, management decisions brought forward from existing planning documents. The BLM will work collaboratively with cooperating agencies and all other interested groups, agencies and individuals. Geographic Information System (GIS) and metadata information will meet Federal Geographic Data Committee standards, as required by Executive Order 12906. All other applicable BLM data standards will also be followed. The BLM will use an interdisciplinary approach to develop the analyses in order to consider the variety of resource issues and concerns identified. Specialists with expertise in the following disciplines will be involved in the planning process: rangeland management, outdoor recreation, botany, archaeology, wildlife and fisheries, lands and realty, soils, sociology, and economics.

The Big Willow Route Designation and the Blacks Creek Reservoir Area Designation will be considered in separate EAs, each of which could result in plan amendments. The 1988 CRMP addresses public land resources and resource use on 487,000 acres in southwestern Idaho, including the Big Willow area. The CRMP provides for OHV uses on public land by designating use levels (i.e., open; limited to designated or existing roads and trails; closed) in the planning area. The CRMP also provides for the protection of candidate and sensitive plants by excluding surface and subsurface rights-of-way in areas known to contain them.

The KMFP addresses public land resources and resource use on 929,000 acres in southwestern Idaho, including the Black Creek Reservoir area. The KMFP, like the CRMP, designates OHV use levels on public land. More information is provided below for each of the proposed actions and how they might affect current plan guidance.

A. The Big Willow Route Designation would affect public lands 14 miles northwest of Emmett, Idaho, in Payette County. The CRMP limits motorized travel in the area to designated or existing roads and trails. The OHV designations would be amended as a result of a route designation decision. Additionally, future travel management development, such as parking areas, trailheads, and trail construction corridors on public land, may also be considered in order to facilitate travel through public land and provide trail-based recreational opportunities. The BLM needs to be responsive to current and future demands for recreational opportunities for access to support livestock operations, utilities, and private in-holdings. These needs would be compatible with management actions that maintain and enhance habitat for Packard's milkvetch, a candidate species under the Endangered Species Act. The public lands affected by the Big Willow Route Designation are located in:

Boise Meridian, Payette County, Idaho

T. 8 N., R. 2 W.,

Secs. 5 to 7, inclusive.

T. 9 N., R. 2 W.,

Sec. 19, and secs. 27 to 34, inclusive.

T. 8 N., R. 3 W.,

Secs. 1 to 4 inclusive, secs. 8 to 10, inclusive, and sec. 12.

T. 9 N., R. 3 W.,

Secs. 25, 26, 34 and 35.

The areas described contain approximately 7,415 acres.

B. The Blacks Creek Reservoir Area Designation would affect public land 11 miles southeast of Boise, Idaho, in Ada County. The KMFP designates the area as open to OHV use. The OHV designation would be amended as a result of a route designation decision. Additionally, visitor use development, such as parking areas, trailheads, and future trail construction corridors on public land, may also be considered in order to facilitate non-motorized recreational uses and administrative access.

The public lands affected by the Blacks Creek Reservoir Area Designation are located in:

Boise Meridian, Ada County, Idaho

T. 1 N., R. 3 E.,

Portion of secs. 5 and 6 lying north of East Kuna-Mora Road.

T. 2 N., R. 3 E.,

Sec. 31.

The areas described contain approximately 255 acres.

The public is encouraged to help identify any management questions and concerns that should be addressed in the plan amendments. The BLM will work collaboratively with interested parties to identify the management decisions that are best suited to local, regional, and national needs and concerns. Federal, State, and local agencies, along with other stakeholders who may be interested or affected by the BLM's decision on this project are invited to participate in the scoping process and, if eligible, may request or be requested by the BLM to participate as a cooperating agency.

You may submit comments on issues and planning criteria in writing to the BLM at any public scoping meeting or using one of the methods listed in the ADDRESSES section above. Before including your address, phone number, email address or other personal identifying information in your comment, you should be aware that your entire comment—including your personal identifying information—may be made publicly available at any time. While you can ask us in your comment to withhold your personal identifying information from public review, we cannot guarantee that we will be able to do so.

The minutes and list of attendees for any scoping meeting(s) will be available to the public and open for 30 days after the meeting to any participant who wishes to clarify the views s/he expressed. The BLM will evaluate identified issues to be addressed in the plan amendments, and will place them into one of three categories:

1. Issues to be resolved in the plan amendments;

2. Issues to be resolved through policy or administrative action; or

3. Issues beyond the scope of the plan amendments.

Authority: 40 CFR 1501.7, 43 CFR 1610.2.

Terry A. Humphrey,
Four Rivers Field Manager.

[FR Doc. 2012-13581 Filed 6-4-12; 8:45 am]

BILLING CODE 4310-GG-P